FEDERAL MARITIME COMMISSION

Security for the Protection of the Public; Indemnification of Passenger for Nonperformance of Transportation; Notice of Issuance of Certificate (Performance)

Notice is hereby given that the following have been issued a Certificate of Financial Responsibility for Indemnification of Passengers for Nonperformance of Transportation pursuant to the provisions of Section 3, Public Law 89-777 (46 App. U.S.C. 817 (e)) and the Federal Maritime Commission's implementing regulations at 46 CFR Part 540, as amended:

American Cruise Lines, Inc.,

741 Boston Post Road,

Suite 200,

Guilford, CT 06437.

Vessel: AMERICAN STAR.

Ambassadors International, Inc., Ambassadors Cruise Group, LLC, DQSC Operations, LLC d/b/a Delta Queen Steamboat Company, American West Steamboat Company LLC d/b/a American West Steamboat Company , DQ Boat, LLC and AQ Boat, LLC, MQ Boat, LLC, EN Boat LLC, QW Boat LLC,

1071 Camelback Street,

Newport Beach, CA 92660.

Vessels: AMERICAN QUEEN, DELTA QUEEN, MISSISSIPPI QUEEN, EMPRESS OF THE NORTH, QUEEN OF THE WEST.

Carnival Corporation (d/b/a Carnival Cruise Lines),

3655 N.W. 87th Avenue,

Miami, FL 33178.

Vessel: CARNIVAL FREEDOM.

Carnival PLC (trading as Cunard Line),

24303 Town Center,

Suite 200,

Valencia, CA 91355-0908.

Vessel: QUEEN VICTORIA.

MSC Corciere S.P.A.,

Piazza Garibaldi 91,

Naples, 80142 Italy.

Vessel: MUSICA.

NCL (Bahamas) Ltd. d/b/a NCL,

7665 Corporate Center Drive,

Miami, FL 33126.

Vessels: NORWEGIAN GEM, NORWEGIAN PEARL.

Princess Cruise Lines, Ltd. and Carnival PLC,

24305 Town Center Drive,

Santa Clarita, CA 91355.

Vessels: ARTEMIS, ARCADIA, EMERALD PRINCESS, ROYAL PRINCESS.

Regent Seven Sea Cruises,

1000 Corporate Drive,

Suite 500,

Fort Lauderdale, FL 33334.

Vessels: SEVEN SEAS MARINER, SEVEN SEAS NAVIGATOR, SEVEN SEAS VOYAGER.

Royal Caribbean Cruises Ltd. (d/b/a Royal Caribbean International),

1050 Caribbean Way,

Miami, FL 33132-2096.

Vessels: FREEDOM OF THE SEAS III, LIBERTY OF THE SEAS.

Saga Cruises Ltd.,

Middelburg Square,

Folkestone, CT20 1 United Kingdom.

Vessel: SAGA RUBY.

West Travel, Inc. (d/b/a Cruise West d/b/a Alaska Sightseeing) and Clipper Cruise Line, Inc.,

2301 Fifth Avenue,

Suite 401,

Seattle, WA 98121-1856.

Vessels: NANTUCKET CLIPPER, YORKTOWN CLIPPER.

Dated: July 25, 2006.
Bryant L. VanBrakle,
Secretary.

[FR Doc. E6-12456 Filed 8-1-06; 8:45 am]

BILLING CODE 6730-01-P